DEPARTMENT OF COMMERCE

National Oceanic and Atmospheric Administration

RIN 0648-XE631

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The exempted fishing permit would allow a commercial fishing vessel to fish outside of the limited access scallop regulations in support of gear research designed to reduce the amount of small, unexploitable scallops caught and create better dredge selectivity, as well as reduce finfish bycatch.

Regulations under the Magnuson-Stevens Fishery Conservation and Management Act require publication of this notification to provide interested parties the opportunity to comment on applications for proposed Exempted Fishing Permits.

DATES: Comments must be received on or before June 9, 2016.

ADDRESSES: You may submit written comments by any of the following methods:

• Email: nmfs.gar.efp@noaa.gov. Include in the subject line “Box Dredge EFP.”

• Mail: John K. Bullard, Regional Administrator, NMFS, Greater Atlantic Regional Fisheries Office, 55 Great Republic Drive, Gloucester, MA 01930. Mark the outside of the envelope “Comments on Box Dredge EFP.”

• Fax: (978) 281-9135.

FOR FURTHER INFORMATION CONTACT: Shannah Jaburek, Fisheries Management Specialist, 978-282-8456.

SUPPLEMENTARY INFORMATION: A scallop captain has submitted an exempted fishing permit (EFP) application for a project that would test a scallop box-shaped ring bag designed to reduce the amount of small scallops and finfish bycatch caught in the dredge, resulting in better gear selectivity and reducing high grading. This is a proof of concept project which aims to determine whether the gear configuration can be effectively fished, and whether preliminary information supports the dredge's expected better size selectivity and reduction of bycatch. The applicant submitted a complete application for an EFP on March 22, 2016, to enable the use of the modified gear during Mid-Atlantic Access Area fishing trips. The EFP would authorize exemptions for one commercial vessel from the scallop dredge gear restriction of no more than seven rows in the apron at 50 CFR 648.51(b)(4)(iv); the scallop observer program requirement at § 648.11(g); and would temporarily exempt the participating vessel from possession limits and minimum size requirements specified in 50 CFR part 648, subsections B and D through O, for sampling purposes only. Any fishing activity conducted outside the scope of the exempted fishing activity would be prohibited, including landing fish in excess of a possession limit or below the minimum size.

One vessel would conduct scallop dredging in May 2016-October 2016 on three trips in the Mid-Atlantic Access Area. All trips would fish two 13-foot (3.96-m) Turtle Deflector Dredges, towed for an average duration of 50 minutes. Each trip would complete approximately 150 tows for an overall total of 450 tows. One dredge would be rigged with an industry standard bag comprised of 7 rows of rings from the twine top to the terminus, while the other would be rigged with an experimental “box bag” configuration. The experimental bag will consist of two 3-ring wide side panels and one 3-ring wide rear panel all connecting the topside of the bag to the underside creating a box-like bag. Both dredges would use 4-inch (10.16-cm) rings, 10-inch (25.40-cm) twine top, and turtle chain mats.

For all tows, the scallop catch would be kept separated by dredge and placed into baskets, counted and weighed using a certified electronic scale. The captain and crew would then count the number of scallops contained in a minimum of one basket from each dredge, enabling them to measure the size selectivity of each dredge. Generally, the greater the number of scallops in a basket, within a reasonable range allowing for variance in how the crew fill baskets, the smaller the scallops are in size. This is a quick and simple method to gauge whether or not the experimental dredge is achieving larger size selectivity without having shell height measuring tools. If this proof of concept study preliminarily shows positive results and the applicant would like to continue research with the experimental dredge, we would require a more scientifically sound method to measure scallop shell height. Crew would sort the finfish catch by species and then count and weigh them. Depending on the volume of scallops and finfish captured, the catch would be subsampled if necessary. Finfish catch not retained for sale would not be kept on deck for longer than needed to conduct sampling. Exemption from possession limit and minimum sizes would support catch sampling activities, and ensure the vessel is not in conflict with possession regulations while collecting catch data. All catch above a possession limit or below a minimum size would be discarded as soon as practicable following data collection. The vessel would be exempt from the sea scallop observer program requirements because the gear used is not typical of gear used during normal commercial fishing operations. All trips would otherwise be conducted in a manner consistent with normal commercial fishing conditions, and catch consistent with the Limited Access possession limits for the Mid-Atlantic Access Area would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 19, 2016.
Emily H. Menashes,
Acting Director, Office of Sustainable Fisheries, National Marine Fisheries Service.

[FR Doc. 2016-12243 Filed 5-24-16; 8:45 am]

BILLING CODE 3510-22-P